DEPARTMENT OF AGRICULTURE

Forest Service

Newspapers for Publication of Legal Notices in the Northern Region

AGENCY: Forest Service, USDA.

ACTION: Notice.

SUMMARY: This notice lists the newspapers that will be used by all Ranger Districts, Forests, Grasslands, and the Regional Office of the Northern Region to publish legal notices for public comment and decisions subject to predecisional administrative review under 36 CFR parts 218 and 219. The intended effect of this action is to inform interested members of the public which newspapers will be used to publish legal notices for public comment or decisions; thereby allowing them to receive constructive notice of a decision, to provide clear evidence of timely notice, and to achieve consistency in administering the objection processes.

DATES: Publication of legal notices in the listed newspapers will begin the first day following the date of this publication for projects and plans subject to administrative review. The list of newspapers will remain in effect until another notice is published in the Federal Register.

FOR FURTHER INFORMATION CONTACT: Regional Administrative Review Coordinator; Northern Region; P.O. Box 7669; Missoula, Montana 59807. Phone: (406) 329-3381.

The newspapers to be used are as follows:

Northern Region Regional Forester Decisions for:

Montana: The Missoulian, Great Falls Tribune, or The Billings Gazette (depending on plan or project location); Northern Idaho and Eastern Washington: Coeur d'Alene Press and Lewiston Tribune (depending on plan or project location); North Dakota and South Dakota: Bismarck Tribune.

Northern Region Forest Supervisor and District Ranger Decisions for:

Beaverhead/Deerlodge National Forest (NF)—Montana Standard

Bitterroot NF—Ravalli Republic

Custer NF—Billings Gazette (Montana); Rapid City Journal (South Dakota)

Dakota Prairie Grasslands—Bismarck Tribune (North and South Dakota)

Flathead NF—Daily Inter Lake

Gallatin NF—Bozeman Chronicle

Helena NF—Independent Record

Idaho Panhandle NFs—Coeur d'Alene Press

Kootenai NF—Daily Inter Lake

Lewis & Clark NF—Great Falls Tribune

Lolo NF—Missoulian

Nez Perce-Clearwater NFs—Lewiston Tribune

Supplemental notices may be placed in any newspaper, but timeframes/deadlines will be calculated based upon notices in newspapers of record listed above.

Dated: March 24, 2014.
George Bain,
Acting Deputy Regional Forester.

[FR Doc. 2014-07293 Filed 4-1-14; 8:45 am]

BILLING CODE 3411-15-P